DEPARTMENT OF COMMERCE

International Trade Administration

[A-533-848]

Commodity Matchbooks from India: Antidumping Duty Order

AGENCY: Import Administration, International Trade Administration, Department of Commerce.

SUMMARY: Based on affirmative final determinations by the Department of Commerce (the Department) and the International Trade Commission (the ITC), the Department is issuing an antidumping duty order on commodity matchbooks from India. On December 4, 2009, the ITC notified the Department of its affirmative determination of material injury to a U.S. industry.

EFFECTIVE DATE: December 11, 2009.

FOR FURTHER INFORMATION CONTACT: Holly Phelps or Elizabeth Eastwood, AD/CVD Operations, Office 2, Import Administration, International Trade Administration, U.S. Department of Commerce, 14th Street and Constitution Avenue, NW, Washington, DC 20230; telephone: (202) 482-0656 and (202) 482-3874, respectively.

SUPPLEMENTARY INFORMATION:

Background

On October 22, 2009, the Department published its affirmative final determination of sales at less-than-fair-value in the antidumping duty investigation of commodity matchbooks from India. See Notice of Final Determination of Sales at Less Than Fair Value: Commodity Matchbooks from India, 74 FR 54536 (Oct. 22, 2009).

On December 4, 2009, the ITC notified the Department of its final determination pursuant to section 735(d) of the Tariff Act of 1930, as amended (the Act), that an industry in the United States is materially injured by reason of less-than-fair-value imports of commodity matchbooks from India. See section 735(b)(1)(A)(i) of the Act.

Scope of the Order

The scope of this order includes commodity matchbooks, also known as commodity book matches, paper matches or booklet matches.¹ Commodity matchbooks typically, but do not necessarily, consist of twenty match stems which are usually made from paperboard or similar material tipped with a match head composed of any chemical formula. The match stems may be stitched, stapled, or otherwise fastened into a matchbook cover of any material, on which a striking strip composed of any chemical formula has been applied to assist in the ignition process.

¹ Such commodity matchbooks are also referred to as “for resale” because they always enter into retail channels, meaning businesses that sell a general variety of tangible merchandise, e.g., convenience stores, supermarkets, dollar stores, drug stores and mass merchandisers.

Commodity matchbooks included in the scope of this order may or may not contain printing. For example, they may have no printing other than the identification of the manufacturer or importer. Commodity matchbooks may also be printed with a generic message such as “Thank You” or a generic image such as the American Flag, with store brands (e.g., Kroger, 7-Eleven, Shurfine or Giant); product brands for national or regional advertisers such as cigarettes or alcoholic beverages; or with corporate brands for national or regional distributors (e.g., Penley Corp. or Diamond Brands). They all enter retail distribution channels. Regardless of the materials used for the stems of the matches and regardless of the way the match stems are fastened to the matchbook cover, all commodity matchbooks are included in the scope of this order.

All matchbooks, including commodity matchbooks, typically comply with the United States Consumer Product Safety Commission (CPSC) Safety Standard for Matchbooks, codified at 16 CFR 1202.1 et seq.

The scope of this order excludes promotional matchbooks, often referred to as “not for resale,” or “specialty advertising” matchbooks, as they do not enter into retail channels and are sold to businesses that provide hospitality, dining, drinking or entertainment services to their customers, and are given away by these businesses as promotional items. Such promotional matchbooks are distinguished by the physical characteristic of having the name and/or logo of a bar, restaurant, resort, hotel, club, café/coffee shop, grill, pub, eatery, lounge, casino, barbecue or individual establishment printed prominently on the matchbook cover. Promotional matchbook cover printing also typically includes the address and the phone number of the business or establishment being promoted.² Also excluded are all other matches that are not fastened into a matchbook cover such as wooden matches, stick matches, box matches, kitchen matches, pocket matches, penny matches, household matches, strike-anywhere matches (aka “SAW” matches), strike-on-box matches (aka “SOB” matches), fireplace matches, barbeque/grill matches, fire starters, and wax matches.

² The gross distinctions between commodity matchbooks and promotional matchbooks may be summarized as follows: (1) if it has no printing, or is printed with a generic message such as “Thank You” or a generic image such as the American Flag, or printed with national or regional store brands or corporate brands, it is commodity; (2) if it has printing, and the printing includes the name of a bar, restaurant, resort, hotel, club, café/coffee shop, grill, pub, eatery, lounge, casino, barbecue, or individual establishment prominently displayed on the matchbook cover, it is promotional.

The merchandise subject to this order is properly classified under subheading 3605.00.0060 of the Harmonized Tariff Schedule of the United States (HTSUS). Subject merchandise may also enter under subheading 3605.00.0030 of the HTSUS. Although the HTSUS subheadings are provided for convenience and customs purposes, the written description of the merchandise covered by the order is dispositive.

Provisional Measures

Section 733(d) of the Act states that suspension of liquidation instructions issued pursuant to an affirmative preliminary determination may not remain in effect for more than four months except where exporters representing a significant proportion of exports of the subject merchandise request the Department to extend that four-month period to no more than six months. At the request of the exporters that accounted for a significant proportion of exports of the subject merchandise in the investigations of commodity matchbooks from India, we extended the four-month period to no more than six months. See Commodity Matchbooks from India: Notice of Preliminary Determination of Sales at Less Than Fair Value and Postponement of Final Determination, 74 FR 26366 (June 2, 2009) (Preliminary Determination).

In this investigation, the six-month period beginning on the date of the publication of the preliminary determination (i.e., June 2, 2009) ended on November 29, 2009. Furthermore, section 737 of the Act states that definitive duties are to begin on the date of publication of the ITC's final injury determination. Therefore, in accordance with section 733(d) of the Act, we will instruct U.S. Customs and Border Protection (CBP) to terminate the suspension of liquidation and to liquidate, without regard to antidumping duties, unliquidated entries of commodity matchbooks from India entered, or withdrawn from warehouse, for consumption on or after November 29, 2009, and before the date of publication of the ITC's final injury determination in the Federal Register. Suspension of liquidation will resume on or after the date of publication of the ITC's final injury determination in the Federal Register.

Antidumping Duty Order

On December 4, 2009, in accordance with section 735(d) of the Act, the ITC notified the Department of its final determination that an industry in the United States is materially injured within the meaning of section 735(b)(1)(A)(i) of the Act by reason of less-than-fair-value imports of commodity matchbooks from India. Therefore, in accordance with section 736(a)(1) of the Act, the Department will direct CBP to assess, upon further instruction by the Department, antidumping duties equal to the amount by which the normal value of the merchandise exceeds the U.S. price of the merchandise for all relevant entries of commodity matchbooks from India. These antidumping duties will be assessed on all unliquidated entries of commodity matchbooks from India entered, or withdrawn from warehouse, for consumption on or after June 2, 2009, the date on which the Department published its notice of preliminary determination in the Federal Register, but prior to November 29, 2009. See Preliminary Determination, 74 FR at 26366.

On or after the date of publication of the ITC's notice of final determination in the Federal Register, CBP will require, pursuant to section 736(a)(3) of the Act, at the same time as importers would normally deposit estimated duties on this merchandise, a cash deposit for the subject merchandise equal to the estimated weighted-average antidumping margins listed below, adjusted for export subsidies found in the final determination of the companion countervailing duty investigation of this merchandise. Specifically, for cash deposit purposes, we are subtracting from the applicable cash deposit rate that portion of the rate attributable to the export subsidies found in the affirmative countervailing duty determination for each respondent (i.e., 9.88 percent for Triveni, and 9.88 percent for “All Others”).

The weighted-average margins and cash deposit rates are as follows:

Producer or exporter | Weighted-average margin (percent) | Cash deposit rate (percent)
Triveni Safety Matches Pvt. Ltd. | 66.07 | 56.19
All Others | 66.07 | 56.19

The “All Others” rate applies to all entries of the subject merchandise except for entries from the company identified individually above.

This notice constitutes the antidumping duty orders with respect to commodity matchbooks from India, pursuant to section 736(a) of the Act. Interested parties may contact the Department's Central Records Unit, Room 1117 of the Main Commerce Building, for copies of an updated list of antidumping duty orders currently in effect.

This order is issued and published in accordance with section 736(a) of the Act and 19 CFR 351.211(b).

Dated: December 7, 2009.
Carole A. Showers,
Acting Deputy Assistant Secretary for Policy and Negotiations.

[FR Doc. E9-29572 Filed 12-10-09; 8:45 am]

BILLING CODE 3510-DS-S